Executive Order 14344 of August 28, 2025

Making Federal Architecture Beautiful Again

By the authority vested in me as President by the Constitution and the laws of the United States of America, it is hereby ordered:

Section 1. Purpose. The Founders, in line with great societies before them, attached great importance to Federal civic architecture. They wanted America's public buildings to inspire the American people and encourage civic virtue. President George Washington and Secretary of State Thomas Jefferson consciously modeled the most important buildings in Washington, DC, on the classical architecture of ancient Athens and Rome. They sought to use classical architecture to visually connect our contemporary Republic with the antecedents of democracy in classical antiquity, reminding citizens not only of their rights but also their responsibilities in maintaining and perpetuating its institutions.

Washington and Jefferson personally oversaw the competitions to design the Capitol Building and the White House. Under the direction and following the vision of these two Founders, Pierre Charles L'Enfant designed the Nation's capital as a classical city. For approximately a century and a half following America's founding, America's Federal architecture continued to be characterized by beautiful and beloved buildings of largely, though not exclusively, classical design. In the 1960s, the Federal Government largely replaced traditional designs for new construction with modernist and brutalist ones. The Federal architecture that ensued, overseen by the General Services Administration (GSA), was often unpopular with Americans. The new buildings ranged from the undistinguished to designs even GSA now admits many in the public found unappealing.

In 1994, GSA responded to this widespread criticism by establishing the Design Excellence Program. The GSA intended that program to “provide visual testimony to the dignity, enterprise, vigor, and stability of the American Government.” Unfortunately, the program has not met this goal. Under the Design Excellence Program, GSA has often selected designs by prominent architects with little regard for local input or regional aesthetic preferences. The resulting Federal architecture sometimes impresses the architectural elite, but not the American people who the buildings are meant to serve. Many of these new Federal buildings are not even visibly identifiable as civic buildings.

It is time to update the policies guiding Federal architecture to address these problems and ensure that architects designing Federal buildings serve their clients, the American people.

Sec. 2. Policy. (a) Applicable Federal public buildings should uplift and beautify public spaces, inspire the human spirit, ennoble the United States, and command respect from the general public. They should also be visually identifiable as civic buildings and, as appropriate, respect regional architectural heritage. Architecture—particularly traditional and classical architecture—that meets the criteria set forth in this subsection is the preferred architecture for applicable Federal public buildings. In the District of Columbia, classical architecture shall be the preferred and default architecture for Federal public buildings absent exceptional factors necessitating another kind of architecture.

(b) Where the architecture of applicable Federal public buildings diverges from the preferred architecture set forth in subsection (a) of this section, great care and consideration must be taken to choose a design that commands respect from the general public and clearly conveys to the general public the dignity, enterprise, vigor, and stability of America's system of self-government.

(c) When renovating, reducing, or expanding applicable Federal public buildings that do not meet the criteria set forth in subsection (a) of this section, the feasibility and potential expense of building redesign to meet those criteria should be examined. Where feasible and economical, such redesign should be given substantial consideration, especially with regard to the building's exterior.

Sec. 3. Definitions. For the purposes of this order:

(a) “Applicable Federal public building” means:

(i) all Federal courthouses and agency headquarters;

(ii) all Federal public buildings in the National Capital Region; and

(iii) all other Federal public buildings that cost or are expected to cost more than $50 million in 2025 dollars to design, build, and finish, but does not include infrastructure projects or land ports of entry.

(b) “Brutalist architecture” means the style of architecture that grew out of the early 20th-century modernist movement that is characterized by a massive and block-like appearance with a rigid geometric style and large-scale use of exposed poured concrete.

(c) “Classical architecture” means the architectural tradition derived from the forms, principles, and vocabulary of the architecture of Greek and Roman antiquity, and as later developed and expanded upon by such Renaissance architects as Alberti, Brunelleschi, Michelangelo, and Palladio; such Enlightenment masters as Robert Adam, John Soane, and Christopher Wren; such 19th-century architects as Benjamin Henry Latrobe, Robert Mills, and Thomas U. Walter; and such 20th-century practitioners as Julian Abele, Daniel Burnham, Rafael Carmoega, Charles F. McKim, John Russell Pope, Julia Morgan, and the firm of Delano and Aldrich. Classical architecture encompasses such styles as Neoclassical, Georgian, Federal, Greek Revival, Beaux-Arts, and Art Deco.

(d) “Deconstructivist architecture” means the style of architecture generally known as “deconstructivism” that emerged during the late 1980s and that features fragmentation, disorder, discontinuity, distortion, skewed geometry, and the appearance of instability.

(e) “General public” means members of the public who are not:

(i) artists, architects, engineers, art or architecture critics, instructors or professors of art or architecture, or members of the building industry; or

(ii) affiliated with any interest group, trade association, or any other organization, whose membership is financially affected by decisions involving the design, construction, or remodeling of public buildings.

(f) “Public building” has the meaning given that term in section 3301(a)(5) of title 40, United States Code.

(g) “Traditional architecture” includes classical architecture, as defined herein, and also includes the historic humanistic architecture such as Gothic, Romanesque, Second Empire, Pueblo Revival, Spanish Colonial, and other Mediterranean styles of architecture historically rooted in various regions of America.

(h) “2025 dollars” means dollars adjusted for inflation using the Bureau of Economic Analysis's Gross Domestic Product price deflator and using 2025 as the base year.

Sec. 4. Guiding Principles for Federal Architecture. (a) Executive departments and agencies (agencies) shall to the extent practicable adhere to the following Guiding Principles for Federal Architecture:

(i) The policy shall be to provide requisite and adequate facilities in an architectural style and form that is distinguished and that will reflect the dignity, enterprise, vigor, and stability of the American Government. Because of their proven ability to meet these requirements, classical and traditional architecture are preferred modes of architectural design. This preference does not exclude the possibility of alternative styles in appropriate circumstances. Major emphasis should be placed on the choice of designs that embody architectural excellence. Specific attention should be paid to the possibilities of incorporating into such designs qualities that reflect the regional architectural traditions of that part of the Nation in which buildings are located. Where appropriate, fine art should be incorporated in the designs, with emphasis on the work of living American artists. Designs shall adhere to sound construction practice and utilize materials, methods, and equipment of proven dependability. Buildings shall be economical to build, operate, and maintain, and should be accessible to the handicapped.

(ii) Design must flow from the needs of the Government and the aspirations and preferences of the American people to the architectural profession, and not vice versa. Competitions for the design of Federal buildings should be held where appropriate. The advice of distinguished architects practiced in classical or traditional architecture should, as a rule, be sought prior to the award of important design contracts.

(iii) The choice and development of the building site should be considered the first step of the design process. This choice should be made in cooperation with local agencies. Special attention should be paid to the general ensemble of streets and public places of which Federal buildings will form a part. Where possible, buildings should be located so as to permit a generous development of landscape.

Sec. 5. GSA Actions. (a) The Administrator of General Services (Administrator) shall adhere to the policies and principles set forth in sections 2 and 4 of this order, and shall expeditiously update GSA policies and procedures to incorporate such policies and principles and advance the purposes of this order.

(b) The Administrator shall:

(i) ensure that GSA architects whose duties include reviewing, assisting with, or approving the selection of architects or designs for applicable Federal public buildings have formal training in, or substantial and significant experience with, classical or traditional architecture;

(ii) create the position of senior advisor for architectural design, for an individual with specialized experience in classical architecture, to help develop GSA procedures, advise on architectural standards, and provide guidance during design evaluations or design juries;

(iii) where the design of an applicable Federal public building is selected pursuant to a design-build competition under section 3309 of title 41, United States Code, list experience with classical or traditional architecture as specialized experience and technical competence in the phase-one solicitation, and give substantive weight to these factors when evaluating which offerors will be advanced to phase two; and

(iv) consistent with sections 4302 and 4312 of title 5, United States Code, make advancing the purposes and implementing the policies of this order a critical performance element in the individual performance plans of the Chief Architect of GSA and appropriate subordinate employees in the GSA Public Buildings Service involved in selecting designs for applicable Federal public buildings.

(c) Where GSA intends to select a building design pursuant to a design competition, the Administrator shall actively recruit architectural firms and, as applicable, designers with experience in classical and traditional architecture to enter such competition and shall, to the extent practicable, ensure that multiple designs in such modes are advanced to the final evaluation round.

(d) In the event the Administrator proposes to approve a design for a new applicable Federal public building that diverges from the preferred architecture set forth in subsection 2(a) of this order, including Brutalist or Deconstructivist architecture or any design derived from or related to these types of architecture, the Administrator shall notify the President through the Assistant to the President for Domestic Policy not less than 30 days before GSA could reject such design without incurring substantial expenditures. Such notification shall set forth the reasons the Administrator proposes to approve such design, including:

(i) a detailed explanation of why the Administrator believes selecting such design is justified, with particular focus on whether such design is as beautiful and reflective of the dignity, enterprise, vigor, and stability of the American system of self-government as alternative designs using preferred architecture;

(ii) the total expected cost of adopting the proposed design, including estimated maintenance and replacement costs throughout its expected lifecycle; and

(iii) a description of the designs using preferred architecture seriously considered for such project and the total expected cost of adopting such designs, including estimated maintenance and replacement costs throughout their expected lifecycles.

Sec. 6. General Provisions. (a) Nothing in this order shall be construed to impair or otherwise affect:

(i) the authority granted by law to an executive department or agency, or the head thereof; or

(ii) the functions of the Director of the Office of Management and Budget relating to budgetary, administrative, or legislative proposals.

(b) This order shall be implemented consistent with applicable law and subject to the availability of appropriations.

(c) This order is not intended to, and does not, create any right or benefit, substantive or procedural, enforceable at law or in equity by any party against the United States, its departments, agencies, or entities, its officers, employees, or agents, or any other person.

(d) The costs for publication of this order shall be borne by the General Services Administration.

THE WHITE HOUSE,

August 28, 2025.

[FR Doc. 2025-16928

Filed 9-2-25; 11:15 am]

Billing code 6820-61-P